FEDERAL COMMUNICATIONS COMMISSION

47 CFR Part 73

[DA 22-1167; MB Docket No. 22-373; RM-11933; FR ID 113831]

Radio Broadcasting Services; South Padre Island, Texas

AGENCY: Federal Communications Commission.

ACTION: Proposed rule.

SUMMARY: This document requests comments on a Petition for Rule Making filed by Eduardo Gallegos, proposing to amend the FM Table of Allotments, by substituting Channel 288A for vacant Channel 237A at South Padre Island, Texas to accommodate the hybrid modification application of Station KRIX(FM) that proposes the substitution of Channel 237A for Channel 288A at Port Isabel, Texas and modification of Station KRIX(FM)'s license to specify operation on Channel 237A at Port Isabel, Texas. A staff engineering analysis indicates that Channel 288A can be allotted to South Padre Island, Texas, consistent with the minimum distance separation requirements of the Commission's rules (Rules), with a site restriction of 11 km (7 miles) south of the community. The reference coordinates are 26-01-30 NL and 97-09-15 WL.

DATES: Comments must be filed on or before January 3, 2023, and reply comments on or before January 18, 2023.

ADDRESSES: Secretary, Federal Communications Commission, 45 L Street NE, Washington, DC 20554. In addition to filing comments with the FCC, interested parties should serve the counsel to petitioner as follows: Dan J. Alpert, Esq., The Law Office of Dan J. Alpert, 2120 21st Rd. N, Arlington, VA 22201.

FOR FURTHER INFORMATION CONTACT: Rolanda F. Smith, Media Bureau, (202) 418-2054.

SUPPLEMENTARY INFORMATION: This is a synopsis of the Federal Communications Commission's (Commission) Notice of Proposed Rule Making, MB Docket No. 22-373, adopted November 9, 2022, and released November 9, 2022. The full text of this Commission decision is available online at https://apps.fcc.gov/ecfs. The full text of this document can also be downloaded in Word or Portable Document Format (PDF) at https://www.fcc.gov/edocs. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

On December 8, 2021, the Audio Division cancelled the license of station DKZSP, Fac. ID No. 56473, Channel 237A, South Padre Island, TX. See FCC Broadcast Actions, Report No. 50134, released December 13, 2021. Channel 237A at South Padre Island, Texas, is, therefore, considered a vacant allotment resulting from the license cancellation of FM station DKZSP. Vacant Channel 237A at South Padre Island, Texas, is not currently listed in the FM Table of Allotments.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

Federal Communications Commission.
Nazifa Sawez,
Assistant Chief, Audio Division, Media Bureau.

Proposed Rules

For the reasons discussed in the preamble, the Federal Communications Commission proposes to amend 47 CFR part 73 as follows:

PART 73—RADIO BROADCAST SERVICES

1. The authority citation for part 73 continues to read as follows:

Authority: 47 U.S.C. 154, 155, 301, 303, 307, 309, 310, 334, 336 and 339.

2. In § 73.202(b), amend the Table of FM Allotments under Texas by adding an entry for “South Padre Island” to read as follows:

§ 73.202 Table of Allotments.

* * * * *

(b) * * *

Table 1 to Paragraph (b)
[U.S. States] | Channel No.
* * * * *
Texas
* * * * *
South Padre Island | 288A
* * * * *

* * * * *

[FR Doc. 2022-25262 Filed 11-18-22; 8:45 am]

BILLING CODE 6712-01-P